ENVIRONMENTAL PROTECTION AGENCY

[FRL-8946-6]

Science Advisory Board Staff Office; Notification of a Meeting of the Science Advisory Board Drinking Water Committee

AGENCY: Environmental Protection Agency.

ACTION: Notice.

SUMMARY: The Environmental Protection Agency (EPA) Science Advisory Board (SAB) Staff Office announces a public face-to-face meeting of the SAB Drinking Water Committee (DWC) to provide advice on the Agency's draft Protocol for Microbial Risk Assessment to Support Human Health Protection for Water-Based Media and to discuss its draft advisory report on the Agency's supporting analysis for the proposed revised Total Coliform Rule.

DATES: The SAB will hold the public face-to-face meeting on September 21, 2009 from 9 a.m. to 5 p.m. (Eastern Time) and will continue on September 22, 2009 from 8:30 a.m. to 1 p.m. (Eastern Time).

ADDRESSES: The September 21-22, 2009 face-to-face meeting will be held at the SAB Conference Center, 1025 F Street, NW., Room 3705, Washington, DC 20004.

FOR FURTHER INFORMATION CONTACT: Any member of the public wishing to obtain general information concerning this public meeting should contact Mr. Aaron Yeow, Designated Federal Officer (DFO), EPA Science Advisory Board (1400F), U.S. Environmental Protection Agency, 1200 Pennsylvania Avenue, NW., Washington, DC 20460; via telephone/voice mail: (202) 343-9878; fax: (202) 233-0643; or e-mail at yeow.aaron@epa.gov. General information concerning the EPA Science Advisory Board can be found on the SAB Web site at http://www.epa.gov/sab.

SUPPLEMENTARY INFORMATION: Pursuant to the Federal Advisory Committee Act, 5 U.S.C., App. 2 (FACA), notice is hereby given that the SAB Drinking Water Committee (DWC) will hold a public meeting to provide advice on the Agency's draft Protocol for Microbial Risk Assessment to Support Human Health Protection for Water-Based Media and to discuss its draft advisory report on the Agency's supporting analysis for the proposed revised Total Coliform Rule. The SAB was established pursuant to 42 U.S.C. 4365 to provide independent scientific and technical advice to the Administrator on the technical basis for Agency positions and regulations. The SAB is a Federal Advisory Committee chartered under FACA. The SAB will comply with the provisions of FACA and all appropriate EPA and SAB Staff Office procedural policies.

Background: EPA's Office of Water (OW) is responsible for protecting human health and the environment from contaminants in water. To achieve this goal, OW conducts risk assessments that apply scientific principles and methods to determine the nature and magnitude of health risks from contaminant exposures. OW performs microbial risk assessments (MRA) to support new regulations for microbial pathogens in drinking water under the Safe Drinking Water Act (SDWA). MRAs also support the development of health-based ambient water quality criteria and biosolids criteria under the Clean Water Act (CWA). These criteria protect against adverse human exposures to infectious disease microorganisms in recreational waters, shellfish growing waters, and wastewater biosolids.

Because of the importance of MRAs, OW developed a Microbial Risk Assessment Framework and is developing a draft Protocol for Microbial Risk Assessment to Support Human Health Protection for Water-Based Media to provide Agency guidance for performing microbial risk assessments. Current Agency risk assessment guidance is geared towards chemical risk assessment. MRAs do not fit easily within that framework because of microbial and host factors that do not affect chemical risk assessments. A separate protocol is needed to help risk assessors address these factors in a consistent way.

The draft Protocol for Microbial Risk Assessment to Support Human Health Protection for Water-Based Media will be used as guidance for preparing qualitative or quantitative MRAs for recreational water exposures, evaluation of biosolids application to land, and drinking water regulation development applications. OW may also make the Protocol available to States, non-governmental organizations, and international agencies to use in conducting risk assessments related to water media. In addition to supporting new regulations under the SDWA and supporting the development of criteria under the CWA, the MRA Protocol may also be used for a number of different applications such as assessing the potential human health risks associated with a known pathogen, determining critical control points for risk mitigation/control measures, identifying and prioritizing research and development, assisting in epidemiological investigations, and determining consequences of management options to reduce risk.

The Office of Water is requesting that the SAB provide advice on the draft Protocol for Microbial Risk Assessment to Support Human Health Protection for Water-Based Media and to provide recommendations on: how to improve the overall approach, the applicability of the Protocol, the reasonableness of the protocol, the clarity of the Protocol, the completeness and robustness of the protocol, and the ease of use of the Protocol for conducting water-based microbial risk assessments.

The SAB DWC will also discuss its draft advisory report on the Agency's supporting analysis for the proposed revised Total Coliform Rule during this meeting. The Committee met previously on May 20, 2009 and on June 9-June 10, 2009 to deliberate on the Agency's charge questions regarding the supporting analysis. A Federal Register Notice dated May 1, 2009 (74 FR 20297-20298) announced these meetings and provided background information on this advisory activity.

Availability of Meeting Materials: The meeting agenda and other materials, including a link to access the EPA review document(s) related to the draft Protocol for Microbial Risk Assessment to Support Human Health Protection for Water-Based Media and draft advisory report on the Agency's supporting analysis for the proposed revised Total Coliform Rule, will be posted on the SAB Web site (http://www.epa.gov/sab) in advance of the meeting. For questions and information concerning the Agency's documents relating to the Protocol, please contact Dr. Stephen Schaub at (202) 566-1126 or schaub.stephen@epa.gov. For questions and information concerning the SAB's draft advisory report on EPA's proposed Total Coliform Rule revisions, please contact Dr. Suhair Shallal at (202) 343-9977 or shallal.suhair@epa.gov.

Procedures for Providing Public Input: Interested members of the public may submit relevant written or oral information for the SAB to consider on the topics included in this advisory activity and/or group conducting the activity. Oral Statements: In general, individuals or groups requesting an oral presentation at a public SAB face-to-face meeting will be limited to five minutes, with no more than a total of one hour for all speakers. To be placed on the public speaker list for the Microbial Risk Assessment Protocol, interested parties should contact Mr. Aaron Yeow, DFO, in writing (preferably via e-mail), by September 14, 2009 at the contact information noted above. To be placed on the public speaker list for the draft SAB advisory report on the Total Coliform Rule revisions, interested parties should contact Dr. Suhair Shallal, DFO, in writing (preferably via e-mail), by September 14, 2009 at the contact information noted above.

Written Statements: Written statements should be received in the SAB Staff Office by September 14, 2009, so that the information may be made available to the SAB for their consideration prior to the face-to-face meeting. Written statements on the Microbial Risk Assessment Protocol should be supplied to the DFO via e-mail to yeow.aaron@epa.gov and written statements on the draft SAB advisory report on the Total Coliform Rule Revisions should be supplied to the DFO via e-mail to shallal.suhair@epa.gov (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Mr. Aaron Yeow at (202) 343-9878 or yeow.aaron@epa.gov. To request accommodation of a disability, please contact Mr. Yeow preferably at least ten days prior to the meeting, to give EPA as much time as possible to process your request.

Dated: August 6, 2009.
Anthony F. Maciorowski,
Deputy Director, EPA Science Advisory Board Staff Office.

[FR Doc. E9-19752 Filed 8-17-09; 8:45 am]

BILLING CODE 6560-50-P